DEPARTMENT OF STATE

[Public Notice 5222]

Shipping Coordinating Committee; Notice of Meetings

The Shipping Coordinating Committee (SHC) will conduct an open meeting at 9:30 a.m. on Thursday, January 26, 2006, in Room 6103 of the United States Coast Guard Headquarters Building, 2100 Second Street, SW., Washington, DC 20593-0001. The primary purpose of the meeting is to prepare for the 49th session of the Sub-Committee on Ship Design and Equipment (DE) to be held at the International Maritime Organization (IMO) Headquarters in London, England from February 20th to February 24th, 2006. The primary matters to be considered include:

—Amendments to resolution A.744(18) regarding longitudinal strength of tankers;

—Passenger ship safety;

—Review of the 2000 HSC Code and amendments to the DSC Code and the 1994 HSC Code;

—Consideration of IACS unified interpretations;

—Inspection and survey requirements for accommodation ladders;

—Revision of the Guidelines for systems for handling oily wastes in machinery spaces of ships (MEPC/Circ.235);

—Development of provisions for gas-fueled ships;

—Performance standards for protective coatings;

—Mandatory emergency towing systems in ships other than tankers greater than 20,000 dwt;

—Review of the Special Purpose Ships (SPS) Code;

—Revision of the Code on Alarms and Indicators (resolution A.830(19));

—Amendments to the MODU Code;

—Review of requirements on the relevant equipment for the revision of the Intact Stability Code.

Hard copies of documents associated with the 49th session of DE will be available at this meeting. To request further copies of documents please write to the address provided below.

Members of the public may attend this meeting up to the seating capacity of the room. Interested persons may seek information by writing to Mr. Wayne Lundy, Commandant (G-MSE-3), U.S. Coast Guard Headquarters, 2100 Second Street, SW., Room 1300, Washington, DC 20593-0001 or by calling (202) 267-0024.

Dated: December 16, 2005.
Clay Diamond,
Executive Secretary, Shipping Coordinating Committee, Department of State.

[FR Doc. 05-24524 Filed 12-27-05; 8:45 am]

BILLING CODE 4710-09-P